DEPARTMENT OF HEALTH AND HUMAN SERVICES

Substance Abuse and Mental Health Services Administration

Fiscal Year (FY) 2011 Funding Opportunity

AGENCY: Substance Abuse and Mental Health Services Administration, HHS.

ACTION: Notice of intent to award a Single Source Grant to the National Association of State Alcohol and Drug Abuse Directors (NASADAD).

SUMMARY: This notice is to inform the public that the Substance Abuse and Mental Health Services Administration (SAMHSA) intends to award approximately $1.102 million (total costs) per year for up to three years to the National Association of State Alcohol and Drug Abuse Directors (NASADAD). This is not a formal request for applications. Assistance will be provided only to the National Association of State Alcohol and Drug Abuse Directors (NASADAD) based on the receipt of a satisfactory application that is approved by an independent review group.

Funding Opportunity Title: TI-11-006.

Catalog of Federal Domestic Assistance (CFDA) Number: 93.243.

Authority: Section 1935 of the Public Health Service Act, as amended.

Justification: Only the National Association of State Alcohol and Drug Abuse Directors (NASADAD) is eligible to apply. The Substance Abuse and Mental Health Services Administration (SAMHSA) is seeking to award a single source grant to the National Association of State Alcohol and Drug Abuse Directors (NASADAD) to provide assistance to substance abuse Single State Agencies (SSAs) to increase service capacity, including recovery support services, develop integrated systems of care, and improve behavioral health outcomes in order to effectively administer the SAPT block grant. In addition, grant funds will be used to assist States to respond to emerging issues, such as health reform, parity, information technology innovations and implementation of evidence-based practices.

The intent of this grant is to provide technical assistance on a wide range of SAMHSA program areas. Specifically, the grantee will network with the State HIV Coordinators and the State Opioid Treatment Authorities, its National Treatment Network (NTN) and Women's Treatment Coordinators and its policy body, the States' Substance Abuse Prevention and Treatment Block Grant Program Management Workgroup. This grant will provide resources to enhance the States' capacity to respond to emerging issues such as health reform, parity, use of information technology innovations and implementation of evidence-based practices. In addition, the grantee will provide technical assistance support to the National Prevention Network (NPN) leadership in support of the further development of State systems as it relates to the implementation of the SAPT Block Grant. The grantee will be expected to facilitate a series of workshops through technical and logistical support aimed at the enhancement and development of support mechanisms that will foster the implementation of an effective data driven prevention service delivery system. The grantee will also facilitate the development of prevention core competencies which can be used to gauge the professional skill development levels needed to effectively implement data driven prevention programs, practices and policies that are goal directed and outcomes based. Finally, the grant allows for the provision of instrumental quality assurance on the block grant guidance, the web-based application system and other SAMHSA program activities.

NASADAD is in the unique position to facilitate these activities because:

• NASADAD is the sole and unique organization with a direct official relationship with the Single State Agencies (SSAs) and has a history of collaboration with the Federal and State government and other organizations that represent issues of importance.

• NASADAD is the sole organization that has been utilizing a Web-based process to facilitate SSA dialogue on SSA management, clinical program and research issues practices within the SSAs.

• NASADAD's constituency and staff are a repository of knowledge on State issues related to substance abuse treatment indicators and are accountable for performance in the SAPT Block Grant. This knowledge is critical to the grant project.

FOR FURTHER INFORMATION CONTACT: Shelly Hara, Substance Abuse and Mental Health Services Administration, 1 Choke Cherry Road, Room 8-1095, Rockville, MD 20857; telephone: (240) 276-2321; E-mail: shelly.hara@samhsa.hhs.gov.

Cathy Friedman,
SAMHSA Public Health Analyst.

[FR Doc. 2011-19496 Filed 8-1-11; 8:45 am]

BILLING CODE 4162-20-P